DEPARTMENT OF HOMELAND SECURITY

[Docket No. DHS-2008-0196]

Homeland Security Science and Technology Advisory Committee

AGENCY: Science and Technology Directorate, DHS.

ACTION: Committee Management; Notice of Closed Federal Advisory Committee Meeting.

SUMMARY: The Homeland Security Science and Technology Advisory Committee will meet January 26-28, 2009 at Johns Hopkins University/Applied Physics Laboratory in Laurel, MD. The meeting will be closed to the public.

DATES: The Homeland Security Science and Technology Advisory Committee will meet January 26, 2009, from 2 p.m. to 4:30 p.m., January 27, 2009, from 8:30 a.m. to 4:30 p.m. and on January 28, 2009, from 8 a.m. to 12 p.m.

ADDRESSES: The meeting will be held at Johns Hopkins University/Applied Physics Laboratory, 11100 Johns Hopkins Road, Laurel, MD. Requests to have written material distributed to each member of the committee prior to the meeting should reach the contact person at the address below by Friday, January 16, 2009. Send written material to Ms. Deborah Russell, Science and Technology Directorate, Department of Homeland Security, 245 Murray Lane, Bldg. 410, Washington, DC 20528. Comments must be identified by DHS-2008-0196 and may be submitted by one of the following methods:

• Federal eRulemaking Portal: http://www.regulations.gov. Follow the instructions for submitting comments.

• E-mail: HSSTAC@dhs.gov. Include the docket number in the subject line of the message.

• Fax: 202-254-6173.

• Mail: Ms. Deborah Russell, Science and Technology Directorate, Department of Homeland Security, 245 Murray Lane, Bldg. 410, Washington, DC 20528.

Instructions: All submissions received must include the words “Department of Homeland Security” and the docket number for this action. Comments received will be posted without alteration at http://www.regulations.gov, including any personal information provided.

Docket: For access to the docket to read background documents or comments received by the Homeland Security Science and Technology Advisory Committee, go to http://www.regulations.gov.

FOR FURTHER INFORMATION CONTACT: Ms. Deborah Russell, Science and Technology Directorate, Department of Homeland Security, 245 Murray Lane, Bldg. 410, Washington, DC 20528 202-254-5739.

SUPPLEMENTARY INFORMATION: Notice of this meeting is given under the Federal Advisory Committee Act, 5 U.S.C. App. (Pub. L. 92-463).

The committee will meet for the purpose of receiving classified and sensitive Homeland Security and classified briefings on Maritime Improvised Explosive Devices (IEDs), Cyber Security and Science and Technology Programs.

Basis for Closure: In accordance with Section 10(d) of the Federal Advisory Committee Act, it has been determined that the Science and Technology Advisory Committee meeting concerns sensitive Homeland Security information and classified matters within the meaning of 5 U.S.C. 552b(c)(1) and (c)(9)(B) which, if prematurely disclosed, would significantly jeopardize national security and frustrate implementation of proposed agency actions.

Dated: January 6, 2009.
Jay M. Cohen,
Under Secretary for Science and Technology.

[FR Doc. E9-569 Filed 1-13-09; 8:45 am]

BILLING CODE 4410-10-P